DEPARTMENT OF ENERGY

Federal Energy Regulatory Commission

Combined Notice of Filings #2

Take notice that the Commission received the following electric rate filings:

Docket Numbers: ER14-2584-002.

Applicants: San Diego Gas & Electric Company.

Description: Compliance filing per 35: SDGE Amendment 2 to WDAT Appendix H SGIA and GIP to be effective 10/3/2014.

Filed Date: 12/18/14.

Accession Number: 20141218-5214.

Comments Due: 5 p.m. ET 1/8/15.

Docket Numbers: ER15-229-001.

Applicants: The Empire District Electric Company.

Description: Tariff Amendment per 35.17(b): Supplement to Revised GFR Filing to be effective 11/1/2014.

Filed Date: 12/18/14.

Accession Number: 20141218-5315.

Comments Due: 5 p.m. ET 1/8/15.

Docket Numbers: ER15-281-001.

Applicants: Duke Energy Indiana, Inc.

Description: Tariff Amendment per 35.17(b): Amendment to Hoosier Facilities Agreement Filing to be effective 1/1/2015.

Filed Date: 12/18/14.

Accession Number: 20141218-5231.

Comments Due: 5 p.m. ET 1/8/15.

Docket Numbers: ER15-652-000.

Applicants: Western Massachusetts Electric Company.

Description: § 205(d) rate filing per 35.13(a)(2)(iii): Revision to Market Based Rate Tariff NUSCO Electric Rate Schedule, FERC No. 7 to be effective 2/16/2015.

Filed Date: 12/18/14.

Accession Number: 20141218-5185.

Comments Due: 5 p.m. ET 1/8/15.

Docket Numbers: ER15-653-000.

Applicants: Arizona Public Service Company.

Description: § 205(d) rate filing per 35.13(a)(2)(iii): Service Agreement No. 193—Amendment 3, ANPP Hassayampa Switchyard to be effective 11/21/2014.

Filed Date: 12/18/14.

Accession Number: 20141218-5186.

Comments Due: 5 p.m. ET 1/8/15.

Docket Numbers: ER15-654-000.

Applicants: PJM Interconnection, L.L.C.

Description: § 205(d) rate filing per 35.13(a)(2)(iii): Original Service Agreement Nos. 4057 (Z2-043) and 4058 (Z2-044) to be effective 11/18/2014.

Filed Date: 12/18/14.

Accession Number: 20141218-5187.

Comments Due: 5 p.m. ET 1/8/15.

Docket Numbers: ER15-655-000.

Applicants: Integrys Energy Services, Inc.

Description: Compliance filing per 35: Revisions to Market Based Rate Tariff to be effective 12/19/2014.

Filed Date: 12/18/14.

Accession Number: 20141218-5226.

Comments Due: 5 p.m. ET 1/8/15.

Docket Numbers: ER15-656-000.

Applicants: PJM Interconnection, L.L.C.

Description: § 205(d) rate filing per 35.13(a)(2)(iii): Service Agreement No. 3454; Queue No. X1-094 to be effective 11/19/2014.

Filed Date: 12/18/14.

Accession Number: 20141218-5234.

Comments Due: 5 p.m. ET 1/8/15.

Docket Numbers: ER15-657-000.

Applicants: Integrys Energy Services of New York, Inc.

Description: Compliance filing per 35: Revisions to Market-Based Rate Tariffs to be effective 12/19/2014.

Filed Date: 12/18/14.

Accession Number: 20141218-5235.

Comments Due: 5 p.m. ET 1/8/15.

Docket Numbers: ER15-658-000.

Applicants: PJM Interconnection, L.L.C.

Description: § 205(d) rate filing per 35.13(a)(2)(iii): Service Agreement No. 3276; Queue No. X1-012 to be effective 11/19/2014.

Filed Date: 12/18/14.

Accession Number: 20141218-5280.

Comments Due: 5 p.m. ET 1/8/15.

Docket Numbers: ER15-659-000.

Applicants: Silver Bear Power, LLC.

Description: Request for cancellation of Market Based Rate tariff of Silver Bear Power, LLC.

Filed Date: 12/18/14.

Accession Number: 20141218-5284.

Comments Due: 5 p.m. ET 1/8/15.

Take notice that the Commission received the following electric securities filings:

Docket Numbers: ES15-7-000.

Applicants: Southwestern Electric Power Company.

Description: Application under Section 204 of the Federal Power Act for Authorization to Issue Securities of Southwestern Electric Power Company.

Filed Date: 12/18/14.

Accession Number: 20141218-5247.

Comments Due: 5 p.m. ET 1/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2014.
Nathaniel J. Davis, Sr.,
Deputy Secretary.

[FR Doc. 2014-30191 Filed 12-23-14; 8:45 am]

BILLING CODE 6717-01-P